FEDERAL TRADE COMMISSION

16 CFR Part 300

Rules and Regulations Under the Wool Products Labeling Act

AGENCY: Federal Trade Commission (“FTC” or “Commission”).

ACTION: Extension of the deadline for filing public comments.

SUMMARY: The Commission grants an eight (8) day extension until December 3, 2013 for filing public comments in response to the Commission's Notice of Proposed Rulemaking published on September 20, 2013 (“NPRM”).

DATES: Comments for the NPRM published on September 20, 2013 (78 FR 57808) must be submitted by December 3, 2013.

ADDRESSES: Interested parties may file a comment online or on paper, by following the instructions in the NPRM.¹ Write “Wool Rules, 16 CFR Part 300, Project No. P124201” on your comment, and file your comment online at https://ftcpublic.commentworks.com/ftc/woolrulesnprm by following the instructions on the web-based form. If you prefer to file your comment on paper, mail or deliver your comment to the following address: Federal Trade Commission, Office of the Secretary, Room H-113 (Annex Q), 600 Pennsylvania Avenue NW., Washington, DC 20580.

¹ 78 FR 57808 (Sept. 20, 2013).

FOR FURTHER INFORMATION CONTACT: Robert M. Frisby, Attorney, (202) 326-2098, Division of Enforcement, Bureau of Consumer Protection, Federal Trade Commission, 600 Pennsylvania Avenue NW., Washington, DC 20580.

SUPPLEMENTARY INFORMATION: On September 20, 2013, the Commission published its NPRM seeking comment on the Commission's proposed amendments to the Rules and Regulations under the Wool Products Labeling Act of 1939 (“Wool Rules”).² The NPRM designated November 25, 2013, as the deadline for filing public comments.

² The Commission issued the Wool Rules to implement the Wool Products Labeling Act of 1939, 15 U.S.C. 68-68j.

On November 20, 2013, the Embassy of Australia contacted the Commission on behalf of the Federation of Australian Wool Organisations (“FAWO”) to seek an eight (8) day extension of the comment deadline until December 3, 2013. It explained that the FAWO will be participating in a meeting of the International Wool Textile Organisation (“IWTO”) in Guangzhou, China, on November 25-26, 2013, to discuss the proposed amendments. FAWO contends that the record will benefit from comments informed by the meeting deliberations given the role of the IWTO in representing wool industry stakeholders at an international level.

FAWO's input would likely assist the Commission in evaluating the proposed amendments to the Wool Rules. Moreover, the requested short extension of the comment period will not substantially delay the rulemaking process. The Commission recognizes that its NPRM addresses complex issues and believes that extending the comment period to facilitate a more complete record outweighs any harm that might result from an eight (8) day delay. Accordingly, the Commission is extending the comment period for eight (8) days until December 3, 2013.

By direction of the Commission.
Janice Podoll Frankle,
Acting Secretary.

[FR Doc. 2013-28662 Filed 11-29-13; 8:45 am]

BILLING CODE 6750-01-P